SECURITIES AND EXCHANGE COMMISSION

[File No. 500-1]

Eugene Science, Inc., Order of Suspension of Trading

March 15, 2012.

It appears to the Securities and Exchange Commission that there is a lack of current and accurate information concerning the securities of Eugene Science, Inc. because it has not filed any periodic reports since the period ended June 30, 2008.

The Commission is of the opinion that the public interest and the protection of investors require a suspension of trading in the securities of the above-listed company. Therefore, it is ordered, pursuant to Section 12(k) of the Securities Exchange Act of 1934, that trading in the securities of the above-listed company is suspended for the period from 9:30 a.m. EDT on March 15, 2012, through 11:59 p.m. EDT on March 28, 2012.

By the Commission.
Jill M. Peterson,
Assistant Secretary.

[FR Doc. 2012-6661 Filed 3-15-12; 4:15 pm]

BILLING CODE 8011-01-P